FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Government Securities Dealers Reports (FR 2004; OMB No. 7100-0003).

DATES: The revisions are effective July 3, 2024.

FOR FURTHER INFORMATION CONTACT:

Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above. On the page displayed at the link above, you can find the supporting information by referencing the collection identifier, FR 2004.

Final Approval Under OMB Delegated Authority of the Extension for Three Years, With Revision, of the Following Information Collection

Collection title: Government Securities Dealers Reports.

Collection identifier: FR 2004.

OMB control number: 7100-0003.

General description of collection: This information collection is comprised of the:

• Weekly Report of Dealer Positions (FR 2004A),

• Weekly Report of Cumulative Dealer Transactions (FR 2004B),

• Weekly Report of Dealer Financing and Fails (FR 2004C),

• Weekly Report of Specific Issues (FR 2004SI),

• Daily Report of Specific Issues (FR 2004SD),

• Supplement to the Daily Report of Specific Issues (FR 2004SD ad hoc),

• Daily Report of Dealer Activity in Treasury Financing (FR 2004WI),

• Settlement Cycle Report of Dealer Fails and Transaction Volumes: Class A (FR 2004FA),

• Settlement Cycle Report of Dealer Fails and Transaction Volumes: Class B (FR 2004FB),

• Settlement Cycle Report of Dealer Fails and Transaction Volumes: Class C (FR 2004FC), and

• Settlement Cycle Report of Dealer Fails and Transaction Volumes (FR 2004FM).

The Federal Reserve Bank of New York, on behalf of the Federal Reserve System, collects data from primary dealers in the U.S. Government securities market. Filing of these data is required to obtain the benefit of primary dealer status. The Federal Reserve uses these data to (1) monitor the condition of the U.S. Government securities market in its Treasury market surveillance and analysis of the market and (2) assist and support the U.S. Department of the Treasury (Treasury) in its role as fiscal agent for Treasury financing operations. In addition, these data are used in the analysis of broad financial conditions and a range of financial stability issues.

Frequency: Weekly, monthly, daily, and event-generated.

Respondents: Primary Government security dealers.

Total estimated number of respondents: 24.

Total estimated change in burden: 1,310.

Total estimated annual burden hours: 35,189.

Current actions: On January 29, 2024, the Board published a notice in the Federal Register (89 FR 5539) requesting public comment for 60 days on the extension, with revision, of the FR 2004. Since the last clearance, a new type of repo financing called “sponsored general collateral repo” has gained significant popularity among clients of primary dealers. Such type of financing is not separately listed in the current FR 2004C. To improve our ability to track the usage of this product by primary dealers, the Board proposed to revise the FR 2004C for each asset category by adding three columns to separately capture sponsored general collateral Triparty Repo financing by maturity tenors. The comment period for this notice expired on March 29, 2024. The Board received one comment from a financial services group. The commenter stated that the proposed June 5, 2024, implementation date conflicted with the T-1 go live and competed with limited IT resources. After consideration, the Board will extend the implementation date to July 3, 2024. Aside from the change discussed above, the Board adopted the extension, with revision, of the FR 2004 as originally proposed.

Board of Governors of the Federal Reserve System, June 4, 2024.
Benjamin W. McDonough,
Deputy Secretary and Ombuds of the Board.

[FR Doc. 2024-12497 Filed 6-6-24; 8:45 am]

BILLING CODE 6210-01-P